DEPARTMENT OF ENERGY

Federal Energy Regulatory Commission

[Docket No. IC17-5-000]

Commision Information Collection Activities (FERC-588); Comment Request; Extension

AGENCY: Federal Energy Regulatory Commission.

ACTION: Notice of information collection and request for comments.

SUMMARY: The Federal Energy Regulatory Commission (Commission or FERC) issued on March 23, 2017, a 60-day Notice in the Federal Register requesting public comments on FERC-588 (Emergency Natural Gas Transportation, Sale and Exchange Transactions). No comments were received.

In compliance with the requirements of the Paperwork Reduction Act of 1995, the Commission is submitting the FERC-588 to the Office of Management and Budget (OMB) for review of the information collection requirements. Any interested person may file comments directly with OMB and should address a copy of those comments to the Commission as explained below.

DATES: Comments on the FERC-588, previously published March 23, 2017 at 82 FR 14888 are due by June 30, 2017.

ADDRESSES: Comments filed with OMB, identified by the OMB Control No. 1902-0144 (FERC-588), should be sent via email to the Office of Information and Regulatory Affairs at: oira_submission@omb.gov, Attention: Federal Energy Regulatory Commission Desk Officer.

A copy of the comments should also be sent to the Commission, in Docket No. IC17-5-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-588, Emergency Natural Gas Transportation, Sale and Exchange Transactions.

OMB Control No.: 1902-0144.

Type of Request: Three-year extension of the FERC-588 information collection requirements with no changes to the reporting requirements.

Abstract: The FERC-588 is used by the Commission to implement the statutory provisions of sections 7(c) of the Natural Gas Act (NGA) (Pub. L. 75-688) (15 U.S.C. 717-717w) and provisions of the Natural Gas Policy Act of 1978 (NGPA), 15 U.S.C. 3301-3432. Under the NGA, a natural gas company must obtain Commission approval to engage in the transportation, sale or exchange of natural gas in interstate commerce. However, section 7(c) exempts from certificate requirements “temporary acts or operations for which the issuance of a certificate will not be required in the public interest.” The NGPA also provides for non-certificated interstate transactions involving intrastate pipelines and local distribution companies.

A temporary operation, or emergency, is defined as any situation in which an actual or expected shortage of gas supply would require an interstate pipeline company, intrastate pipeline, or local distribution company, or Hinshaw pipeline to curtail deliveries of gas or provide less than the projected level of service to the customer. The natural gas companies which provide the temporary assistance to the companies which are having the “emergency” must file the necessary information described in 18 CFR part 284, subpart I with the Commission, so that it may determine if their assisting transaction/operation qualifies for exemption. The assisting company may or may not be under the Commission's jurisdiction and if their assisting actions qualify for the exemption, they will not become subject to the Commission's jurisdiction for such actions.

A report within forty-eight hours of the commencement of the transportation, sale or exchange, a request to extend the sixty-day term of the emergency transportation, if needed, and a termination report are required. The data required to be filed for the forty-eight hour report is specified by 18 CFR 284.270.

Type of Respondents: Natural Gas Pipelines.

Estimate of Annual Burden: ¹ The Commission estimates the Public Reporting Burden for this information collection as:

¹ Burden is defined as the total time, effort, or financial resources expended by persons to generate, maintain, retain, or disclose or provide information to or for a Federal agency. For further explanation of what is included in the information collection burden, refer to 5 Code of Federal Regulations 1320.3.

² The estimates for cost per response are derived using the 2017 FERC average salary plus benefits of $158,754/year (or $76.50/hour). Commission staff finds that the work done for this information collection is typically done by wage categories similar to those at FERC.

FERC-588—Emergency Natural Gas Transportation, Sale and Exchange Transactions
| Number of respondents | Annual number of responses per respondent | Total number of responses | Average burden & cost per response ² | Total annual burden hours & total annual cost | Cost per respondent ($)
| (1) | (2) | (1) * (2) = (3) | (4) | (3) * (4) = (5) | (5) ÷ (1)
Natural Gas Pipelines | 10 | 3 | 30 | 10 hrs.; $765.00 | 300 hrs. $22,950.00 | $2,295.00

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 23, 2017.
Kimberly D. Bose,
Secretary.

[FR Doc. 2017-11201 Filed 5-30-17; 8:45 am]

BILLING CODE 6717-01-P